DEPARTMENT OF TRANSPORTATION

Federal Transit Administration

[FTA Docket No. FTA-2015-0024]

Agency Information Collection Activity Under OMB Review

AGENCY: Federal Transit Administration, DOT.

ACTION: Notice of request for comments.

SUMMARY: The Federal Transit Administration invites public comment about its intention to request the Office of Management and Budget's (OMB) approval to extend the approval of the following information collection:

Fixed Guideway Capital Investment Grants—New Starts Section 5309

The information collected is necessary to permit an assessment of program effectiveness and ensure the proper and timely expenditure of federal funds within the scope of the program. The Federal Register notice with a 60-day comment period soliciting comments for the Fixed Guideway Capital Investment Grants—New Starts Section 5309 was published on June 24, 2015 (Citation 80 FR 121). No comments were received from that notice.

DATES: Comments must be submitted before October 19, 2015. A comment to OMB is most effective, if OMB receives it within 30 days of publication.

FOR FURTHER INFORMATION CONTACT: Tia Swain, Office of Administration, Office of Management Planning, (202) 366-0354.

ADDRESSES: All written comments must refer to the docket number that appears at the top of this document and be submitted to the Office of Information and Regulatory Affairs, Office of Management and Budget, 725 17th Street NW., Washington, DC 20503, Attention: FTA Desk Officer.

Comments are invited on whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

SUPPLEMENTARY INFORMATION:

Title: Fixed Guideway Capital Investment Grants—New Starts Section 5309 (OMB Number: 2132-0561)

Abstract: The Federal Transit Administration (FTA) administers the discretionary Capital Investment Grant (CIG) grant program under 49 U.S.C. Section 5309 that provides funding for major transit capital investments including rapid rail, light rail, commuter rail, bus rapid transit, and ferries. Three types of eligible projects are outlined in law: smaller scaled corridor-based transit capital projects known as “Small Starts”; new fixed guideway transit systems and extensions to existing fixed guideway systems known as “New Starts”; and projects to improve capacity at least 10 percent in existing fixed guideway corridors that are at capacity today or will be in five years, known as “Core Capacity”. The CIG program has a longstanding requirement that FTA evaluate proposed projects against a prescribed set of statutory criteria at specific points during the projects' development including when they seek to enter a subsequent phase of the process or a construction grant agreement. In addition, FTA must report on its evaluations and ratings annually to Congress.

The Moving Ahead for Progress Act in the 21st Century (MAP-21) enacted on July 6, 2012, made significant changes to the CIG program, including creation of an entirely new category of eligible projects called Core Capacity. MAP-21 also reduced the number of steps in the CIG process projects must follow to receive funds, created a new congestion relief evaluation criterion FTA must use to evaluate and rate projects, and specified that “warrants” (ways projects can qualify for automatic ratings) should be developed and used to the extent practicable. The requirement for CIG project ratings has been in place since 1998. Thus, the requirements for project evaluation and data collection for these proposed projects are not new. In general, the information used by FTA for CIG project evaluation and rating should arise as a part of the normal project planning process.

FTA has been collecting project evaluation information from project sponsors under the existing OMB approval for this program (OMB No. 2132-0561). However, due to the addition of the Core Capacity eligibility, the changes to the steps in the CIG process made by MAP-21, and the proposed implementation of “warrants,” it became apparent that some information now required might be beyond the scope of ordinary planning activities.

Estimated Total Annual Burden: 68,840 hours.

Matthew M. Crouch,
Associate Administrator for Administration.

[FR Doc. 2015-23293 Filed 9-16-15; 8:45 am]

BILLING CODE P